ENVIRONMENTAL PROTECTION AGENCY

[EPA-HQ-OLEM-10021-78-OLEM]

Brownfields Stakeholder Discussion and Listening Session With Nonprofit Organizations and Community Foundations

AGENCY: Environmental Protection Agency (EPA).

ACTION: Notice.

SUMMARY: The Environmental Protection Agency (EPA) will host an open discussion and listening session with nonprofit organizations across the country to hear about nonprofit leadership in brownfields assessment, cleanup, and redevelopment projects. This is a virtual event and will be held on Friday, April 23, 2021 through Zoom from 1 p.m.-3 p.m. Eastern Standard Time. EPA will make registration information available to the public on the agency's website at http://www.epa.gov/brownfields on Friday, April 2, 2021. Due to the limit of 250 participants, attendance will be on a first-come, first served basis. Registration is required. After registering and prior to April 2, confirmed participants will receive an email from Eventbrite with a link to use to join the event.

The purpose of this meeting is to hear from representatives of nonprofits, using the following questions to guide the discussion: How does your nonprofit organization view its role in brownfields cleanup and redevelopment? What benefits and barriers exist to nonprofits leading brownfield cleanup and redevelopment projects? How can EPA best engage with nonprofit organizations that are most interested in leading brownfields cleanup and redevelopment?

In addition to the open discussion and listening session, stakeholders may respond in writing to the guiding questions mentioned above during a three-week comment period that will commence upon publication of this notice. Comments will be accepted through April 23, 2021 and should be submitted through email to EPA's Office of Brownfields and Land Revitalization at BUILDAct@epa.gov.

DATES: This event will be held on April 23, 2021 through Zoom from 1 p.m.-3 p.m. Eastern Standard Time. Public comments submitted before the event will be accepted through April 23, 2021 and should be submitted through email to EPA's Office of Brownfields and Land Revitalization at BUILDAct@epa.gov.

FOR FURTHER INFORMATION CONTACT: Daniel Moher, U.S. EPA; email: moher.daniel@epa.gov; telephone: (202) 566-2939. Additional information about EPA's Brownfields and Land Revitalization Program is available at http://www.epa.gov/brownfields.

SUPPLEMENTARY INFORMATION: The Brownfields Utilization, Investment and Local Development Act of 2018 (BUILD Act) amended the Brownfields provisions of the Comprehensive, Environmental Response, Compensation and Liability Act (CERCLA) to expand its eligibility for nonprofit organizations. Nonprofits described as 501(c)(3), limited liability corporations (LLCs) and community development agencies that are nonprofit, can apply for multipurpose, assessment, cleanup, and revolving loan fund grants.

A. Information About Services for Individuals With Disabilities or Requiring English Language Translation Assistance

For more information about accessibility or services for individuals requiring assistance, please contact Daniel Moher, U.S. EPA; email: moher.daniel@epa.gov; telephone: (202) 566-2939. To request special accommodations for a disability, English language translation or other assistance, please submit your request at least fourteen (14) working days prior to the event to give EPA sufficient time to process your request. All requests should be sent to the email or phone number listed in the FOR FURTHER INFORMATION CONTACT section.

Dated: March 18, 2021.
David Lloyd,
Director, Office of Brownfields and Land Revitalization.

[FR Doc. 2021-06014 Filed 3-23-21; 8:45 am]

BILLING CODE 6560-50-P